DEPARTMENT OF ENERGY

Federal Energy Regulatory Commission

[ Project No. 2237-017]

Georgia Power Company; Notice of Application Accepted for Filing, Soliciting Motions To Intervene and Protests, Ready for Environmental Analysis, and Soliciting Comments, Recommendations, Preliminary Terms and Conditions, and Preliminary Fishway Prescriptions

May 11, 2007

Take notice that the following hydroelectric application has been filed with the Commission and is available for public inspection.

a. Type of Application: New Major License.

b. Project No.: P-2237-017.

c. Date filed: February 27, 2007.

d. Applicant: Georgia Power Company.

e. Name of Project: Morgan Falls Hydroelectric Project.

f. Location: The existing project is located in the metropolitan city of Atlanta area on the Chattahoochee River, at river mile 312.6, and about 36 miles downstream from the U.S. Corps of Engineers' Buford dam (Lake Sidney Lanier) in Cobb and Fulton Counties, Georgia. The project occupies about 14.4 acres of federal lands within the Chattahoochee River National Recreation Area managed by the National Park Service.

g. Filed Pursuant to: Federal Power Act 16 U.S.C. 791(a)-825(r).

h. Applicant Contact: Douglas E. Jones, Senior Vice-President, Southern Company Generation, 241 Ralph McGill Boulevard NE., Bin 10240, Atlanta, Georgia 30308-3374, Telephone (404) 506-7328; or George A. Martin, Project Manager, at (404) 506-1357 or e-mail at gamartin@southernco.com. Additional information on this project is available on the applicant's Web site: www.southerncompany.com/gapower/hydro.

i. FERC Contact: Janet Hutzel at (202) 502-8675, or by e-mail at janet.hutzel@ferc.gov.

j. Deadline for filing motions to intervene and protests, comments, recommendations, preliminary terms and conditions, and preliminary fishway prescriptions is 60 days from the issuance of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, recommendations, preliminary terms and conditions, and preliminary fishway prescriptions may be filed electronically via the Internet in lieu of paper. The Commission strongly encourages electronic filings. See 18 CFR 385.2001(a)(1)(iii) and the instructions on the Commission's Web site http://www.ferc.gov under the “e-Filing” link.

k. This application has been accepted for filing and is now is ready for environmental analysis.

l. Project Description: The existing project consists of the following: (1) A 1,031-foot-long, 56-foot-maximum height concrete gravity dam consisting of a 46-foot-long non-overflow westerly abutment; a 680-foot-long gated spillway with sixteen 40-foot-wide by 8-foot-tall Taintor gates; a 21-foot-long trash gate section containing one 8-foot-wide by 4-foot-tall trash gate; a 195-foot-long, 73-foot-high combined powerhouse and intake section integral with the dam containing seven horizontal double runner Francis turbines coupled to seven generating units with a total generating capacity of 16.8 megawatt; and an 89-foot-long non-overflow easterly abutment; (2) a 684-acre reservoir (Bull Sluice Lake) at normal full pool elevation of 866.0 feet plant datum,¹ with 2,239 acre-feet of usable storage; and (3) appurtenant facilities. The average annual generation at the project is about 15,221 megawatt-hours. The applicant has no plans to modify the existing project facilities or the current modified run-of-river mode of operation.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659. A copy is also available for inspection and reproduction at the address in item h above.

¹ Plant datum = mean sea level + 12.39 ft.

Register online at http://www.ferc.gov/esubscribenow.htm to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must: (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following Hydro Licensing Schedule. Revisions to the schedule may be made as appropriate.

At this time we do not anticipate the need for preparing a draft environmental assessment (EA). We intend to prepare one environmental document. The EA will include our recommendations for operating procedures and environmental enhancement measures that should be part of any new license issued by the Commission. Recipients will have 30 days to provide the Commission with any comments on that document. All comments on the EA, filed with the Commission, will be considered in an Order taking final action on the license application. However, should substantive comments requiring reanalysis be received on the NEPA document, we would consider preparing a subsequent NEPA document.

Milestone | Target date
Interventions, recommendations, preliminary terms and conditions, and fishway prescriptions due | July 12, 2007.
Reply comments due | August 26, 2007.
FERC issues single EA (without a draft) | November 9, 2007.
Comments on EA due | December 9, 2007.
Filing of modified terms and conditions | February 8, 2008.

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification.

Kimberly D. Bose,
Secretary.

[FR Doc. E7-9683 Filed 5-18-07; 8:45 am]

BILLING CODE 6717-01-P